DEPARTMENT OF HEALTH AND HUMAN SERVICES

Centers for Disease Control and Prevention

[60Day-17-17AW; Docket No. CDC-2016-0101]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the proposed information collection project entitled “Assessment of Targeted Training and Technical Assistance (TTA) Efforts on the Implementation of Comprehensive Cancer Control”. CDC is requesting to collect information about TTA offered under two different cooperative agreements using case studies, a web-based survey, and in-depth interviews in order to document how TTA was provided and identify elements of TTA administered across both cooperative agreements that could inform the development of a viable TTA model for enhancing future tobacco and cancer prevention and control efforts.

DATES: Written comments must be received on or before December 23, 2016.

ADDRESSES: You may submit comments, identified by Docket No. CDC-2016-0101 by any of the following methods:

• Federal eRulemaking Portal: Regulations.gov. Follow the instructions for submitting comments.

• Mail: Leroy A. Richardson, Information Collection Review Office, Centers for Disease Control and Prevention, 1600 Clifton Road, NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Assessing the Impact of Targeted Training and Technical Assistance Efforts on the Implementation of Comprehensive Cancer—NEW—National Center for Chronic Disease Prevention and Health Promotion, Centers for Disease Control and Prevention (CDC).

Background and Brief Description

Cancer is the second leading cause of death in the United States, and health care costs for cancer care are expected to rise to $158 billion by 2020. Addressing this public health problem requires primary prevention, early detection and treatment, support for cancer survivors, and a reduction in health disparities. Providing support to state, tribal, territorial and local organizations to implement evidence-based strategies has the potential to impact population-level cancer outcomes and reduce the burden of cancer.

The Centers for Disease Control and Prevention's (CDC) National Comprehensive Cancer Control Program (NCCCP) has been a primary funder for state and community-based cancer control interventions since its inception in the late 1990s. The program supports states and communities in developing a comprehensive approach to cancer prevention and control that includes supporting an infrastructure for state, local, and population-based interventions and multi-sectoral partnerships and coalitions. Currently, NCCCP supports 65 cancer control program grantees including programs in all 50 states, the District of Columbia, and in a number of tribes, tribal organizations, and U.S. Associated Pacific Islands/territories.

In addition, CDC's Office on Smoking and Health (OSH) also has worked to build state health department infrastructure and capacity to conduct coordinated comprehensive tobacco prevention and control activities which contribute to cancer health outcomes. In fiscal year 2015, OSH provided funding to a number of state health departments and local partners through the National State-Based Tobacco Control Program (NSTB) to support the implementation and evaluation of evidence-based environmental, policy, and systems interventions, strategies, and activities to reduce tobacco use, secondhand smoke exposure, tobacco-related disparities and associated disease, disability, and death.

In striving to build capacity and maximize the impact of CDC's funded programs, CDC has focused on developing and implementing innovative programs to enhance TTA delivered to NCCCP and NSBT grantee programs. CDC funds 10 programs under two cooperative agreements—Consortium of National Networks to Impact Populations Experiencing Tobacco-Related and Cancer Health Disparities (DP13-1314) and the National Support to Enhance Implementation of Comprehensive Cancer Control Activities (DP13-1315). These cooperative agreements provide funding to organizations to provide TTA to state NCCCP and NSBT grantees to support local implementation of high-impact public health strategies. DP13-1314 awardees are charged with building the capacity of NCCCP and NSBT grantees through the administration of a national network to reduce the burden of cancer- and tobacco-related health disparities among vulnerable populations; DP13-1315 awardees are charged with delivering TTA to NCCCP programs and partners to enhance and facilitate local implementation of comprehensive cancer control (CCC) activities; policy, systems and environmental change strategies; effective public health partnership building; and promotion of CCC program successes and leverage additional resources for cancer control and prevention. These two TTA models aim to impact both short- and long-term outcomes on the awardee, NCCCP program, and population levels.

CDC proposes to conduct an assessment of the DP13-1314 and DP13-1315 cooperative agreements to: (1) Increase CDC's understanding of the TTA provided to NCCCP and NSTB grantees across both cooperative agreements, (2) help identify the extent to which core elements of the TTA were administered, and (3) determine the elements of TTA across both cooperative agreements that show promise for improving NCCCP and NSTB capacity. There are no other data collection efforts currently underway to assess implementation of the two TTA models or their perceived effectiveness among awardee programs.

This information collection request will involve three complementary data collection efforts: (1) Case studies of DP13-1314 and DP13-1315 awardees (consisting of interviews with DP13-1314 and DP13-1315 program managers/directors, evaluators, and partners); (2) a cross-sectional web-based survey administered to NCCCP and NSBT program directors, coalition members, and partners; and (3) in-depth interviews with NCCCP and NSBT program directors, staff, coalition members, and partners who received a high volume of TTA from one or more of the DP13-1314 and DP13-1315 awardees. The case studies will be used to explore how DP13-1314 and DP13-1315 awardees are implementing their respective cooperative agreements and administering TTA to NCCCP and NSBT grantees; the factors that affect the implementation of specific TTA components; and the extent to which each cooperative agreement was able to achieve planned short-term outcomes. The web-based survey will inform CDC's understanding of the reach of DP13-1314 and DP13-1315 TTA efforts; elicit information from NCCCP and/or NSBT programs and coalitions about the TTA received, including type, dosage, frequency and format; and assess the perceptions of the effectiveness of the TTA provided in building capacity to achieve intended outcomes. The in-depth interviews with “high-volume” TTA users will facilitate an in-depth exploration of the type and quality of TTA activities received; perceived quality of TTA and its contributions to NCCCP and NSBT grantee program implementation, and achievement of CDC priorities and goals.

CDC will use findings from the assessment to inform development of future TTA efforts that utilize the core elements across the two models to more effectively and efficiently support NCCCP's partner organizations.

CDC seeks a two-year approval to collect the required information. Participation is voluntary and respondents will not receive incentives for participation. There are no costs to respondents other than their time.

Estimated Annualized Burden Hours
Type of respondents | Form name | Number of respondents | Number of responses per respondent | Average burden per response (in hours) | Total burden (in hours)
DP13-1314 and DP13-1315 Awardee Organizations | Worksheet for Identifying Case Study Interviewees | 10 | 1 | 60/60 | 10
DP13-1314 Program Directors/Managers | Case Study Interview Guide for DP13-1314 Program Managers | 16 | 1 | 90/60 | 24
| Case Study Follow-Up Interview Guide for DP13-1314 Program Managers | 16 | 1 | 60/60 | 16
DP13-1315 Program Directors/Managers | Case Study Interview Guide for DP1-1315 Program Managers | 4 | 1 | 90/60 | 6
| Case Study Follow-Up Interview Guide for DP1-1315 Program Managers | 4 | 1 | 60/60 | 4
DP13-1314 Evaluators | Case Study Interview Guide for DP1-1314 Evaluators | 16 | 1 | 60/60 | 16
DP13-1315 Evaluators | Case Study Interview Guide for DP1-1315 Evaluators | 4 | 1 | 60/60 | 4
DP13-1314 Partners | Case Study Interview Guide for DP1-1314 Partners | 32 | 1 | 60/60 | 32
DP13-1315 Partners | Case Study Interview Guide for DP1-1315 Partners | 8 | 1 | 60/60 | 8
NCCCP and NSBT Program Directors, Staff, Partners, and Coalition Members | Survey | 1560 | 1 | 15/60 | 390
NCCCP and NSBT Program Directors, Staff, Partners, and Coalition Members | TTA Recipient Interview Guide | 10 | 1 | 30/60 | 5
Total |  |  |  |  | 515

Leroy A. Richardson,
Chief, Information Collection Review Office, Office of Scientific Integrity, Office of the Associate Director for Science, Office of the Director, Centers for Disease Control and Prevention.

[FR Doc. 2016-25671 Filed 10-21-16; 8:45 am]

BILLING CODE 4163-18-P